DEPARTMENT OF HEALTH AND HUMAN SERVICES

Centers for Medicare & Medicaid Services

42 CFR Part 413

[CMS-1827-P]

RIN 0938-AV47

Medicare Program; Prospective Payment System and Consolidated Billing for Skilled Nursing Facilities; Updates to the Quality Reporting Program for Federal Fiscal Year 2026

Correction

In Proposed Rule document, 2025-06348, appearing on pages 18590 through 18626, in the issue of Wednesday April 30, 2025, make the following correction:

On page 18590, in the first column, in the DATES: section, the entry “June 30, 2025” should read “June 10, 2025”.

[FR Doc. C1-2025-06348 Filed 5-16-25; 4:15 pm]

BILLING CODE 0099-10-D